COMMITTEE FOR THE IMPLEMENTATION OF TEXTILE AGREEMENTS

Amendment of Coverage of Import Limit, Visa, and Electronic Visa Information System (ELVIS) Requirements for Certain Gloves Produced or Manufactured in Various Countries

May 10, 2004.

AGENCY: Committee for the Implementation of Textile Agreements (CITA).

ACTION: Issuing a directive to the Commissioner, Bureau of Customs and Border Protection amending coverage of an import limit, visa, and ELVIS requirements for certain gloves.

EFFECTIVE DATE: May 17, 2004.

FOR FURTHER INFORMATION CONTACT: Martin Walsh, International Trade Specialist, Office of Textiles and Apparel, U.S. Department of Commerce, (202) 482-3400.

SUPPLEMENTARY INFORMATION:

Authority: Section 204 of the Agricultural Act of 1956, as amended (7 U.S.C. 1854); Executive Order 11651 of March 3, 1972, as amended.

From at least 1996, the Bureau of Customs and Border Protection (CBP)classified various styles of “mechanics' gloves” (gloves specifically and demonstrably designed for use by professional mechanics and racing enthusiasts during racing) in subheading 6216.00.4600 of the Harmonized Tariff Schedule of the United States (HTS), which provides for “gloves, mittens and mitts: other: of man-made-fibers: . . . designed for use in sports, . . .”. This HTS provision has never fallen within the U.S. textile category structure. On September 24, 2003, CBP revoked prior Customs rulings on mechanics' gloves, reclassifying them in HTS 6216.00.5820, which falls under textile category 631. (HQ 966648 September 10, 2003). There were minimal imports classified in HTS 6216.00.5820 prior to the effective date of the reclassification.

To reflect this reclassification, and to maintain the balance of concessions negotiated under the World Trade Organization Agreement on Textiles and Clothing, CITA is eliminating quota, visa, and ELVIS requirements for HTS 6216.00.5820. In the letter published below, the Chairman of CITA directs the Commissioner of the Bureau of Customs and Border Protection to eliminate quota, visa, and ELVIS requirements for goods classified in HTS 6216.00.5820. This action applies to goods exported on or after May 17, 2004.

James C. Leonard III,
Chairman, Committee for the Implementation of Textile Agreements.

Committee for the Implementation of Textile Agreements

May 10, 2004.

Commissioner,

Bureau of Customs and Border Protection, Washington, DC 20229.

This directive amends, but does not cancel, all monitoring and import control directives, all visa, and ELVIS requirement directives, issued to you by the Chairman, Committee for the Implementation of Textile Agreements, which include man-made fiber textile products in Category 631, produced or manufactured in various countries.

Effective on May 17, 2004, you are directed to eliminate quota, visa, and ELVIS requirements for HTSUS # 6216.00.5820 in Category 631 for goods exported on or after May 17, 2004.

The Committee for the Implementation of Textile Agreements has determined that this action falls within the foreign affairs exception to the rulemaking provisions of 5 U.S.C.553(a)(1).

Sincerely,

James C. Leonard III,

Chairman, Committee for the Implementation of Textile Agreements.

[FR Doc. 04-11122 Filed 5-14-04; 8:45 am]

BILLING CODE 3510-DR-S